NUCLEAR REGULATORY COMMISSION

Request for a License To Export Plutonium

Pursuant to 10 CFR 110.70(b)(2) “Public notice of receipt of an application,” please take notice that the Nuclear Regulatory Commission has received the following request for a license to export plutonium. Copies of the request are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the request for a license to export plutonium noticed herein, the Commission does not evaluate the health, safety or environmental effects in the recipient nation of the material to be exported. The information concerning this request follows.

NRC Export License Application for Plutonium
Name of applicant Date of application: Date received Application number Docket number | Description of Material: Material type | Description of Material: Type qty | End use | Country of destination
Department of Energy (DOE)—Headquarters October 1, 2003 October 6, 2003, XSNM03327, 11005440 | Plutonium Oxide Powder | 140.0 kg Pu 02/123.48 kg Pu | Fabrication of four MOX lead assemblies to be returned to the U.S. for testing in commercial reactors | France.

Dated this 17th day of October 2003 at Rockville, Maryland.
For the Nuclear Regulatory Commission.
Edward T. Baker,
Deputy Director, Office of International Programs.

[FR Doc. 03-27011 Filed 10-24-03; 8:45 am]

BILLING CODE 7590-01-P